DEPARTMENT OF STATE

[Public Notice: 7755]

Culturally Significant Objects Imported for Exhibition Determinations: “The Steins Collect: Matisse, Picasso and the Parisian Avant-Garde”

ACTION: Notice, correction.

SUMMARY: On April 1, 2011, notice was published on page 18292 of the Federal Register (volume 76, number 63) of determinations made by the Department of State pertaining to the exhibition “The Steins Collect: Matisse, Picasso and the Parisian Avant-Garde.” This notice was corrected by a November 18, 2011, notice published on page 71616 of the Federal Register (volume 76, number 223) as to the number of objects covered at the Metropolitan Museum of Art. These two referenced notices are now corrected as to additional objects to be included in the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that additional objects to be included in the exhibition “The Steins Collect: Matisse, Picasso and the Parisian Avant-Garde” imported from abroad for temporary exhibition within the United States, are of cultural significance. The additional objects are imported pursuant to loan agreements with the foreign owners or custodians. I also determine that the exhibition or display of the additional exhibit objects at The Metropolitan Museum of Art, New York, NY, from on or about February 22, 2012, until on or about June 3, 2012, and at possible additional exhibitions or venues yet to be determined, is in the national interest. I have ordered that Public Notice of these Determinations be published in the Federal Register.

FOR FURTHER INFORMATION CONTACT: For further information, including a list of the additional exhibit objects, contact Julie Simpson, Attorney-Adviser, Office of the Legal Adviser, U.S. Department of State (telephone: (202) 632-6467). The mailing address is U.S. Department of State, SA-5, L/PD, Fifth Floor (Suite 5H03), Washington, DC 20522-0505.

Dated: January 9, 2012.
J. Adam Ereli,
Principal Deputy Assistant Secretary, Bureau of Educational and Cultural Affairs, Department of State.

[FR Doc. 2012-609 Filed 1-12-12; 8:45 am]

BILLING CODE 4710-05-P